ENVRIONMENTAL PROTECTION AGENCY

[FRL-7269-4]

Meeting of the Mobile Sources Technical Review Subcommittee

AGENCY: Environmental Protection Agency (EPA).

ACTION: Notice of meeting.

SUMMARY: Pursuant to the Federal Advisory Committee Act, Public Act, Public Law 92-463, notice is hereby given that the Mobile Sources Technical Review Subcommittee of the Clean Air Act Advisory Committee will meet three times annually. This is an open meeting. The theme will be “Fuel Cells and Biodiesel Fuels” and will include presentations from EPA and other outside organizations. The preliminary agenda for this meeting will be available on the Subcommittee's Web site in early October. Draft minutes from the previous meetings are available on the Subcommittee's Web site now at: http://epa.gov/air/caaac/mobile_sources.html.

DATES: Wednesday, October 16, 2002 from 9 am. to 3:30 pm. Registration begins at 8:30 am.

ADDRESSES: The meeting will be held at the Marriott Dearborn Inn Hotel, 20301 Oakwood Boulevard, Dearborn, MI, 48124.

FOR FURTHER INFORMATION CONTACT: For technical information: Ms. Cheryl L. Hogan, Alternate Designated Federal Officer, Certification and Compliance Division, U.S. EPA, 2000 Traverwood Drive, Ann Arbor, MI 48105, Ph: 734/214-4402, FAX: 734/214-4053, e-mail: hogan.cheryl@epa.gov.

For logistical and administrative information:Ms. Mary F. Green, FACA Management Officer, U.S. EPA, 2000 Traverwood Drive, Ann Arbor, Michigan, Ph: 734/214-4411, Fax: 734/214-4053, e-mail: green.mary@epa.gov.

Background on the work of the Subcommittee is available at: http://transaq.ce.gatech.edu/epatac.

For more current information: http://epa.gov/air/caaac/mobile_sources.html.

Individuals or organizations wishing to provide comments to the Subcommittee should submit them to Ms. Hogan at the address above by September 30, 2002. The Mobile Sources Technical Review Subcommittee expects that public statements presented at its meetings will not be repetitive of previously submitted oral or written statements.

SUPPLEMENTARY INFORMATION: During this meeting, the Subcommittee may also hear progress reports from some of its workgroups as well as updates and announcements on activities of general interest to attendees.

Dated: August 21, 2002.
Margo T. Oge,
Director, Office of Transportation and Air Quality.

[FR Doc. 02-21947 Filed 8-27-02; 8:45 am]

BILLING CODE 6560-50-P